DEPARTMENT OF COMMERCE

National Oceanic and Atmospheric Administration

RIN 0648-XE544

Caribbean Fishery Management Council; Public Meetings

AGENCY: National Marine Fisheries Service (NMFS), National Oceanic and Atmospheric Administration (NOAA), Commerce.

ACTION: Notice of a public meeting.

SUMMARY: The Caribbean Fishery Management Council's Scientific and Statistical Committee (SSC) will hold a three-day meeting to discuss the items contained in the following agenda:

DATES: The meetings will be held on April 19 through April 21, 2016.

ADDRESSES: The meetings will be held at the Council' Office, 270 Muñoz Rivera Avenue, Suite 401, San Juan, Puerto Rico.

FOR FURTHER INFORMATION CONTACT: Caribbean Fishery Management Council, 270 Muñoz Rivera Avenue, Suite 401, San Juan, Puerto Rico 00918-1903; telephone: (787) 766-5926.

SUPPLEMENTARY INFORMATION: The Caribbean Fishery Management Council's SSC will hold a three-day meeting to discuss the items contained in the following agenda:

April 19-21, 2016, 9 a.m. to 5 p.m.

—Call to Order

—Adoption of Agenda

—SEDAR 46 U.S. Caribbean Data Limited Species Review—SEFSC

—Island Based Fishery Management

—Review Goals and Objectives of the IBFMPs

—Review Action 1: Species Selection

—Action 2

—Review Consolidated list of stocks and stock complexes

—Species Complexes—SERO Update

—Recommendations to CFMC

—Future Action 3: Reference Points

—ABC Control Rule

—5 year CFMC Research Plan

—Finalize 5-year Research Plan

—Other Business

Special Accommodations

This meeting is physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: March 29, 2016.
Tracey L. Thompson,
Acting Deputy Director, Office of Sustainable Fisheries, National Marine Fisheries Service.

[FR Doc. 2016-07408 Filed 3-31-16; 8:45 am]

BILLING CODE 3510-22-P